DEPARTMENT OF HOUSING AND URBAN DEVELOPMENT

[Docket No. FR-5375-N-47]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert Moore, Air Force Real Property Agency, 143 Billy Mitchell Blvd. Ste. 1, San Antonio, TX 78226; (210) 395- 9512; COAST GUARD: Commandant, United States Coast Guard, Attn: Jennifer Stomber, 2100 Second St., SW., Stop 7901, Washington, DC 20593-0001; (202) 475-5609; GSA: Mr. Gordon Creed, General Services Administration, Office of Property Disposal, 18th and F St., NW., Washington, DC 20405; NAVY: Mr. Albert Johnson, Department of the Navy, Asset Management Division, Naval Facilities Engineering Command, Washington Navy Yard, 1330 Patterson Ave., SW., Suite 1000, Washington, DC 20374; (202)685-9305; (These are not toll-free numbers).

Dated: November 23, 2010.
Mark R. Johnston,
Deputy Assistant Secretary for Special Needs.

Title V, Federal Surplus Property Program Federal Register Report for 12/03/2010

Suitable/Available Properties

Building

North Carolina

Greensboro Federal Bldg.

320 Federal Place

Geensboro NC 27401

Landholding Agency: GSA

Property Number: 54201040018

Status: Excess

GSA Number: 4-G-NC-750

Comments: 94,809 sq. ft. office bldg., major structural issues exist with exterior brick facade

Texas

FAA Outermarker

13418 Kuykendahl Rd

Houston TX 77090

Landholding Agency: GSA

Property Number: 54201040019

Status: Surplus

GSA Number: 7-U-TX-1128

Comments: 48 sq.ft, construction/alteration prohibited unless a determination of no hazard to air navigation is issued by the FAA, restrictions imposed by ordinaces of the city of Houston, possible abestos/PCBs

Unsuitable Properties

Building

Alaska

33 Bldgs.

Eielson AFB

Eielson AK 99702

Landholding Agency: Air Force

Property Number: 18201040005

Status: Excess

Directions: 5136, 5137, 5138, 5139, 5140, 5141, 5142, 5143, 5144, 5161, 5162, 5163, 5183, 5184, 5185, 5186, 5196, 5197, 5211, 5255, 5256, 5257, 5259, 5260, 5261, 5262, 5263, 5264, 5265, 5266, 5267, 5268

Reasons: Extensive deterioration Secured Area

California

Blgd. 411

Ft. MacAuthur Family Housing

San Pedro CA

Landholding Agency: Air Force

Property Number: 18201040004

Status: Unutilized

Reasons: Extensive deterioration

Vandenberg AFB

Vandenberg CA 93437

Landholding Agency: Air Force

Property Number: 18201040009

Status: Unutilized

Reasons: Secured Area

37 Bldgs.

Beale AFB

Marysville CA 95901

Landholding Agency: Air Force

Property Number: 18201040014

Status: Unutilized

Directions: 4199, 4205, 4207, 4211, 4215, 4218, 4219, 4222, 4226, 4227, 4229, 4230, 4231, 4238, 4241, 4242, 4256, 4260, 4264, 4268, 4284, 4286, 4308, 4310, 4314, 4318, 4320, 4333, 4341, 4353, 4355, 4382, 4384, 4395, 4397, 4399, 4401

Reasons: Extensive deterioration

38 Bldgs.

Beale AFB

Marysville CA 95901

Landholding Agency: Air Force

Property Number: 18201040015

Status: Unutilized

Directions: 4415, 4417, 4457, 4467, 4475, 4496, 4534, 4598, 4600, 4603, 4605, 4618, 4620, 4634, 4636, 4639, 4641, 4659, 4661, 4664, 4666, 4675, 4677, 4691, 4693, 4703, 4705, 4708, 4710, 4717, 4719, 4724, 4725, 4726, 4727, 4732, 4734, 4522

Reasons: Extensive deterioration

11 Bldgs.

Beale AFB

Marysville CA 95901

Landholding Agency: Air Force

Property Number: 18201040016

Status: Unutilized

Directions: 5205, 5216, 5223, 5228, 5236, 5238, 5277, 5278, 5279, 5294, 5297

Reasons: Extensive deterioration

36 Bldgs.

Beale AFB

Marysville CA 95901

Landholding Agency: Air Force

Property Number: 18201040017

Status: Unutilized

Directions: 3873, 3887, 3919, 3936, 3942, 3947, 3961, 4075, 4103, 4105, 4115, 4118, 4119, 4120, 4122, 4133, 4136, 4137, 4142, 4145, 4148, 4151, 4157, 4158, 4161, 4166, 4171, 4178, 4179, 4181, 4184, 4185, 4189, 4193, 4197, 4198

Reasons: Extensive deterioration

Bldg. 21144

Marine Corp. Air Station

San Diego CA

Landholding Agency: Navy

Property Number: 77201040017

Status: Excess

Reasons: Extensive deterioration

Colorado

2 Bldgs.

N. Peterson Blvd.

Colorado Springs CO 80914

Landholding Agency: Air Force

Property Number: 18201040003

Status: Excess

Directions: 670,1820

Reasons: Within 2000 ft. of flammable or explosive material Other—legal constraints-—leased from City

Illinois

Bldg. 438

2110 Luce Blvd.

Great Lakes IL 60088

Landholding Agency: Navy

Property Number: 77201040016

Status: Unutilized

Reasons: Secured Area

New Jersey

11 Bldgs.

Coast Guard Training Center

Cape May NJ 08204

Landholding Agency: Coast Guard

Property Number: 88201040006

Status: Excess

Directions: 16A, 16B, 020, 203A, 220A, 220I, 140, 203, 220, 273

Reasons: Extensive deterioration

New Mexico

Bldg. 880

1241 Moroni

Holloman NM 88330

Landholding Agency: Air Force

Property Number: 18201040001

Status: Unutilized

Reasons: Secured Area

Bldg. 825

Holloman AFB

Holloman NM 88330

Landholding Agency: Air Force

Property Number: 18201040002

Status: Unutilized

Reasons: Extensive deterioration

North Carolina

Gas Station/County Store

Weeksville Rd

Elizabeth City NC 27909

Landholding Agency: Coast Guard

Property Number: 88201040005

Status: Excess

Reasons: Extensive deterioration

North Dakota

5 Bldgs.

4128 27th Ave.

Grand Forks ND 58203

Landholding Agency: Air Force

Property Number: 18201040012

Status: Unutilized

Directions: 120,200,250,255,300

Reasons: Within 2000 ft. of flammable or explosive material

Ohio

Bldgs. OO1,OT1, OC1, OC2, OC2

US Coast Guard

Cleveland OH 44114

Landholding Agency: Coast Guard

Property Number: 88201040004

Status: Excess

Reasons: Secured Area, Extensive deterioration

Oklahoma

3 Bldgs.

Altus AFB

Altus OK 73523

Landholding Agency: Air Force

Property Number: 18201040013

Status: Excess

Directions: 296,444,503

Reasons: Within airport runway clear zone, Within 2000 ft. of flammable or explosive material

South Carolina

25 Bldgs.

JB Charleston

N. Charleston SC 29404

Landholding Agency: Air Force

Property Number: 18201040006

Status: Excess

Directions: 1501B, 1503A, 1503B, 1506A, 1508A, 1508B, 1512A, 1514A, 1520A, 1520B, 1529A, 1531A, 1531B, 1533A, 1533B, 1537A, 1539A, 1540A, 1540B, 1563A, 1563B, 1565B, 1576A, 1577A, 1577B

Reasons: Secured Area

20 Bldgs.

JB Charleston

N. Charleston SC 29404

Landholding Agency: Air Force

Property Number: 18201040007

Status: Excess

Directions: 1505A, 1505B, 1506B, 1507B, 1510A, 1510B, 1514B, 1516A, 1516B, 1518B, 1532B, 1533B, 1538B, 1539B, 1575B, 1576B, 1576B, 1578B, 1579B, 1580A, 1580B

Reasons: Secured Area

13 Bldgs.

JB Charleston

N.Charleston SC 29404

Landholding Agency: Air Force

Property Number: 18201040008

Status: Excess

Directions: 1501A, 1507A, 1509A, 1517A, 1518A, 1533A, 1535A, 1538A, 1565A, 1575A, 1578A, 1579A, 1688A

Reasons: Secured Area

4 Bldgs.

JB AFB

N. Charleston SC 29404

Landholding Agency: Air Force

Property Number: 18201040010

Status: Excess

Directions: 1515, 1530, 1536, 1571

Reasons: Secured Area

12 Bldgs.

JB Charleston

N. Charleston SC 29404

Landholding Agency: Air Force

Property Number: 18201040018

Status: Excess

Directions: 1512B, 1529B, 1537B, 1519A, 1519B, 1688B, 1690A, 1690B, 1509B, 1517B, 1521A, 1521B

Reasons: Secured Area

2 Bldgs.

Edwards AFB

Edwards SC 93524

Landholding Agency: Air Force

Property Number: 18201040019

Status: Excess

Directions: 1014, 1015

Reasons: Secured Area

Land

North Dakota

JFSE

4128 27th Ave.

Grand Forks ND 58203

Landholding Agency: Air Force

Property Number: 18201040011

Status: Unutilized

Reasons: Within 2000 ft. of flammable or explosive material

[FR Doc. 2010-30245 Filed 12-2-10; 8:45 am]

BILLING CODE 4210-67-P